ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, Tuesday and Wednesday, January 9-10, 2007, at the times and location noted below.

DATES: The schedule of events is as follows:

Tuesday, January 9, 2007

9 a.m.-10 a.m. Briefing on New Financial Disclosure Report .

10 a.m.-Noon Planning and Evaluation Committee.

1:30 p.m.-2 p.m. Budget Committee.

2 p.m.-3:30 p.m. Technical Programs Committee.

3:30 p.m.-5 p.m. Passenger Vessels Guidelines Ad Hoc Committee (Closed Session).

Wednesday, January 10, 2007

9 a.m.-Noon Transportation Vehicles Information Meeting.

1:30 p.m.-3 p.m. Board Meeting.

ADDRESSES: All meetings will be held at The Madison Hotel, 1177 15th Street, NW., Washington, DC, 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the November 2006 draft Board Meeting Minutes.

• Planning and Evaluation Committee Report.

• Budget Committee Report.

• Technical Programs Committee Report.

• Committee of the Whole Report.

• Passenger Vessels Guidelines Ad Hoc Committee Report.

All meetings are accessible to persons with disabilities. An assistive listening system, computer assisted real-time transcription (CART), and sign language interpreters will be available at the Board meetings. Persons attending Board meetings are requested to refrain from using perfume, cologne, and other fragrances for the comfort of other participants.

James J. Raggio,
General Counsel.

[FR Doc. E6-22480 Filed 12-29-06; 8:45 am]

BILLING CODE 8150-01-P